DEPARTMENT OF LABOR

Employment and Training Administration

[NAFTA-03942]

Glacier Gold Compost, Incorporated Olney, MT; Notice of Termination of Investigation

Pursuant to Title V of the North American Free Trade Agreement Implementation Act (Public Law 103-182) concerning transitional adjustment assistance, hereinafter called (NAFTA-TAA), and in accordance with section 250(a), Subchapter D, Chapter 2, Title II, of the Trade Act of 1974, as amended (19 U.S.C. 2273), an investigation was initiated on May 19, 2000 in response to a petition filed by a company official on behalf of workers at Glacier Gold Compost, Incorporated, Olney, Montana.

In a letter dated June 5, 2000, the petitioner requested that the petition for NAFTA-TAA be withdrawn. Consequently, further investigation in this case would serve no purpose, and the investigation has been terminated.

Signed at Washington, DC, this 5th day of June, 2000.
Grant D. Beale,
Program Manager, Division of Trade Adjustment Assistance.

[FR Doc. 00-15142 Filed 6-14-00; 8:45 am]

BILLING CODE 4510-30-M